FEDERAL COMMUNICATIONS COMMISSION

47 CFR Part 73

[WT Docket No. 99-168; CS Docket No. 98-120; MM Docket No. 00-39; DA 01-788]

Clearing of the 740-806 MHz Band; Conversion to Digital Television; Pleading Cycle Established for Responses to Petitions for Reconsideration

AGENCY: Federal Communications Commission.

ACTION: Final rule; deadline for filing oppositions to petitions for reconsideration.

SUMMARY: This document informs the public that the deadline for filing oppositions to petitions for reconsideration of the Third Report and Order in the Commission's 700 MHz band proceeding (published on February 14, 2001) is April 10, 2001, and the deadline for filing replies to such oppositions is April 20, 2001. These are expedited deadlines, which are necessary to give the Commission an opportunity to provide timely guidance to prospective bidders and incumbent broadcasters regarding issues raised by petitions for reconsideration in advance of the upcoming auction of licenses in the 747-762 and 777-792 MHz band (Auction No. 31).

DATES: Oppositions are due on or before April 10, 2001, and replies are due on or before April 20, 2001.

ADDRESSES: Parties who choose to file on paper should send an original and eight copies of their filing to the Office of the Secretary, Federal Communications Commission, TW B204, 445 12th Street, SW., Washington, DC 20554. In addition, parties should send two copies to: Nese Guendelsberger, Legal Branch, Auctions and Industry Analysis Division, Wireless Telecommunications Bureau, Federal Communications Commission, 445 12th St. SW., Washington, DC 20554 (or via e-mail (nguendel@fcc.gov), preferably in .pdf format), and one copy to ITS, Room CY-B400, 445 12th Street, SW., Washington, DC 20554.

FOR FURTHER INFORMATION CONTACT: Wireless Telecommunications Bureau: Nese Guendelsberger, (202) 418-0660, e-mail: nguendel@fcc.gov, or Bill Huber, (202) 418-0660, e-mail: whuber@fcc.gov. Mass Media Bureau: Gordon Godfrey, (202) 418-2193, e-mail: ggodfrey@fcc.gov, or Clay Pendarvis, (202) 418-1600, e-mail: cpendarv@fcc.gov.

SUPPLEMENTARY INFORMATION: This is a summary of a Public Notice released March 29, 2001. The complete text of the Public Notice is available for inspection and copying during normal business hours in the FCC Reference Center (CY-A257), 445 12th Street, SW., Washington, DC. It may also be purchased from the Commission's copy contractor, International Transcription Service, Inc. (ITS, Inc.), Room CY-B400, 445 12th Street, SW., Washington, DC 20554, (202) 837-3800. It is also available on the Commission's web site at http://www.fcc.gov.

1. Notice is hereby given that the parties listed have petitioned the Commission for reconsideration and clarification of the Third Report and Order in WT Docket No. 99-168, CS Docket No. 98-120, and MM Docket No. 00-39, FCC 01-25, released January 23, 2001. See 66 FR 10204 (February 14, 2001). In the Third Report and Order, the Commission adopted mechanisms and made determinations intended to facilitate the clearing of the 740-806 MHz band to allow for the introduction of new wireless services, and to promote the early transition of analog television licensees to digital television service.

2. In light of the upcoming auction of licenses in the 747-762 and 777-792 MHz band (Auction No. 31), which is scheduled to commence on September 12, 2001, good cause exists in this instance to alter the periods specified in § 1.429 of the Commission's rules, 47 CFR 1.429, for the filing of oppositions to petitions for reconsideration and replies to oppositions. The petitions filed by the parties listed seek reconsideration or clarification of a number of the policies and procedures adopted in the Third Report and Order, which are relevant to the transition of the 746-806 MHz band from broadcast to wireless uses. An expedited schedule will give the Commission an opportunity to provide timely guidance regarding these issues to prospective bidders and incumbent broadcasters in advance of Auction No. 31. Accordingly, oppositions to petitions for reconsideration of the Third Report and Order shall be filed no later than April 10, 2001, and replies to oppositions will be due no later than April 20, 2001.

Procedural Matters

3. Parties submitting oppositions or replies should address the issues raised in the petitions for reconsideration in light of the relevant statutory requirements, procedures, and public interest considerations. All responsive filings should reference the docket numbers of this proceeding, i.e., WT Docket No. 99-168, CS Docket No. 98-120, and MM Docket No. 00-39.

4. This proceeding has been designated as a “permit-but-disclose” proceeding in accordance with the Commission's ex parte rules. Persons making oral ex parte presentations are reminded that memoranda summarizing the presentations must reflect the substance of the presentations and not merely list the subjects discussed. More than a one or two sentence description of the views and arguments presented is generally required. Other rules pertaining to oral and written ex parte presentations in permit-but-disclose proceedings are set forth in § 1.1206(b) of the Commission's rules.

5. Parties may obtain copies of the Third Report and Order and petitions for reconsideration at the FCC website, http://www.fcc.gov/e-file/ecfs.html. The petitions are also available for public inspection and copying in the Reference Center, Room CY-A257, 445 12th Street, SW., Washington, DC 20554. Copies of the petitions are also available from ITS, Room CY-B400, 445 12th Street, SW., Washington, DC 20554, or by calling (202) 857-3800.

6. Oppositions to petitions for reconsideration and replies may be filed using the Commission's Electronic Comment Filing System (“ECFS”) or by filing paper copies. Oppositions and replies filed through the ECFS can be sent as an electronic file via the Internet to http://www.fcc.gov/e-file/ecfs.html. Each filing should be submitted into each of the following dockets: 99-168, 98-120, and 00-39. In completing the transmittal screen, parties should include their full name and Postal Service mailing address. Parties may also submit an electronic filing by Internet e-mail. To get filing instructions for e-mail filings, parties should send an e-mail message to ecfs@fcc.gov, including “get form to <your e-mail address>” in the body of the message. A sample form and directions will be sent in response.

7. Listed are the parties filing Petitions for Reconsideration and Clarification in WT Docket No. 99-168, CS Docket No. 98-120, and MM Docket No. 00-39:

(i) Association for Maximum Service Television, Inc. (March 16, 2000)

(ii) Spectrum Clearing Alliance (March 16, 2000) (joint filing of broadcasters and other entities interested in band clearing policies)

(iii) Spectrum Exchange Group, LLC (March 16, 2000)

Federal Communications Commission.
Margaret Wiener,
Chief, Auctions and Industry Analysis Division, WTB.

[FR Doc. 01-8157 Filed 3-30-01; 10:07 am]

BILLING CODE 6712-01-P